DEPARTMENT OF HEALTH AND HUMAN SERVICES

Centers for Disease Control and Prevention

National Task Force on Fetal Alcohol Syndrome and Fetal Alcohol Effect: Meeting

In accordance with section 10(a)(2) of the Federal Advisory Committee Act (Pub. L. 92-463), the Centers for Disease Control and Prevention (CDC) announces the following Federal advisory committee meeting.

Name: National Task Force on Fetal Alcohol Syndrome and Fetal Alcohol Effect (NTFFASFAE).

Times and Dates: 9 a.m.-5 p.m., December 14, 2000; 9 a.m.-3 p.m., December 15, 2000.

Place: Doubletree Hotel Atlanta-Buckhead, 3342 Peachtree Road, NE, Atlanta, Georgia 30326, telephone 404/231-1234; fax 404/231-3112.

Status: Open to the public, limited only by the space available. The meeting room accommodates approximately 50 people.

Purpose: The Secretary is authorized by the Public Health Service Act, Section 399G, (42 U.S.C. 280f, as added by Pub. L. 105-392) to establish a National Task Force on Fetal Alcohol Syndrome and Fetal Alcohol Effect to: (1) Foster coordination among all governmental agencies, academic bodies and community groups that conduct or support Fetal Alcohol Syndrome (FAS) and Fetal Alcohol Effect (FAE) research, programs and surveillance; and (2) to otherwise meet the general needs of populations actually or potentially impacted by FAS and FAE.

Matters To Be Discussed: This is the initial meeting of the National Task Force on Fetal Alcohol Syndrome (FAS) and Fetal Alcohol Effect (FAE). The Task Force will convene to discuss the development of defining a national research agenda on all aspects of public health research and program development regarding primary and secondary prevention activities in the area of FAS and FAE.

Agenda items are subject to change as priorities dictate.

Contact Person for More Information: R. Louise Floyd, DSN, RN, Executive Secretary, NTFFASFAE, National Center for Environmental Health, CDC, 4700 Buford Highway, NE, (F-49), Atlanta, Georgia 30333, telephone 770/488-7372, fax 770/488-7361.

The Director, Management Analysis and Services Office, has been delegated the authority to sign Federal Register notices pertaining to announcements of meetings and other committee management activities for both the CDC and ATSDR.

Julia M. Fuller,
Acting Director, Management Analysis and Services Office, Centers for Disease Control and Prevention.

[FR Doc. 00-29959 Filed 11-22-00; 8:45 am]

BILLING CODE 4163-18-P